SOCIAL SECURITY ADMINISTRATION

[Docket No. SSA 2011-0089]

Privacy Act of 1974, as Amended; Computer Matching Program (SSA/Department of Homeland Security (DHS))—Match Number 1010

AGENCY: Social Security Administration (SSA).

ACTION: Notice of a renewal of an existing computer matching program that will expire on July 18, 2012.

SUMMARY: In accordance with the provisions of the Privacy Act, as amended, this notice announces a renewal of an existing computer matching program that we are currently conducting with DHS.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869, or writing to the Executive Director, Office of Privacy and Disclosure, Office of the General Counsel, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Daniel F. Callahan,
Acting Executive Director, Office of Privacy and Disclosure, Office of the General Counsel.

Notice of Computer Matching Program, SSA With DHS

A. Participating Agencies

SSA and DHS.

B. Purpose of the Matching Program

The purpose of this matching program is to establish conditions, safeguards, and procedures for disclosure of information relating to aliens for matching purposes by DHS and us. DHS will disclose two separate data files through a computer matching operation for our use in making Federal benefit eligibility determinations for aliens who leave the United States voluntarily and aliens who are removed from the United States.

C. Authority for Conducting the Matching Program

This agreement is executed under the Privacy Act of 1974, 5 U.S.C. 552a, as amended by the Computer Matching and Privacy Protection Act of 1988, as amended, and the regulations and guidance promulgated thereunder.

Legal authority for the disclosures under this agreement is the Social Security Act (Act), 42 U.S.C. 1383(e)(1)(B), 402(n), 1382(f) and 1382c(a)(1), and the Immigration and Nationality Act (INA), 8 U.S.C. 1611 and 1612.

Section 1631(e)(1)(B) of the Act requires us to verify declarations of applicants for and recipients of Supplemental Security Income (SSI) payments before making a determination of eligibility or payment amount. Section 1631(f) of the Act requires Federal agencies to provide us with information necessary to verify SSI eligibility or benefit amounts or to verify other information related to these determinations. Section 202(n)(2) of the Act specifies that the Secretary of Homeland Security notify the Commissioner of Social Security when certain individuals are removed from the United States under sections 237(a) and 212(a)(6)(A) of the INA.

D. Categories of Records and Persons Covered by the Matching Program

1. Aliens Who Leave the United States Voluntarily

Using the DHS Benefits Information System (BIS), DHS/USCIS-007, DHS will identify for us aliens who leave the United States voluntarily. Our systems of records used in the match are the Master Files of Social Security Number (SSN) Holders and SSN Applications (Enumeration System), SSA/OEEAS 60-0058, and the Supplemental Security Income Record and Special Veterans Benefits (SSIR/SVB or SSR), SSA/OASSIS 60-0103.

BIS provides us the alien's name, SSN, date of birth (DOB), alien identification number, date of departure, and expected length of stay. To verify the SSN, we will match BIS data against the names, DOB, and SSNs found in our Numident and Alpha-Index files in our Enumeration System. We will store and match verified SSNs against the same elements in our SSR files.

2. Aliens Who Are Removed From the United States

DHS will identify for us, from their Immigration and Enforcement Operational Records System (ENFORCE), DHS/ICE-011, aliens who are removed from the United States. Immigration and Customs Enforcement maintains information on removed aliens from the DHS database known as the Enforcement Integrated Database (EID).

Our systems of records used in the match are the Enumeration System, the SSR, the Master Beneficiary Record (MBR), SSA/OEEAS 60-0090, and the Prisoner Update Processing System (PUPS), SSA/OPB 60-0269. The Unverified Prisoner System (UPS) is a subsystem of PUPS. UPS users perform a manual search of fallout cases where the Enumeration and Verification System is unable to locate an SSN for an alien deportee.

ENFORCE, EID provides us information including the individual's name and alias (if any), SSN (if available), DOB, sex, country of birth, country to which removed, date of removal, final removal charge code, and DHS “A” number. To verify the SSN, we will match ENFORCE data against our Numident and Alpha-Index files in our Enumeration System. We match the verified SSNs against the existing MBR and SSR records to locate those aliens removed from the United States, and their dependents or survivors, if any, who have claimed and are currently receiving Retirement, Survivors and Disability Insurance and/or SSI benefits.

E. Inclusive Dates of the Matching Program

The effective date of this matching program is July 19, 2012, provided that the following notice periods have lapsed: 30 days after publication of this notice in the Federal Register and 40 days after notice of the matching program is sent to Congress and OMB. The matching program will continue for 18 months from the effective date and, if both agencies meet certain conditions, it may extend for an additional 12 months thereafter.

[FR Doc. 2012-13300 Filed 5-31-12; 8:45 am]

BILLING CODE 4191-02-P